DEPARTMENT OF ENERGY

Federal Energy Regulatory Commission

Combined Notice of Filings #1

Take notice that the Commission received the following exempt wholesale generator filings:

Docket Numbers: EG18-46-000.

Applicants: Panoche Valley Solar, LLC.

Description: Self-Certification of EG of Panoche Valley Solar, LLC.

Filed Date: 2/13/18.

Accession Number: 20180213-5379.

Comments Due: 5 p.m. ET 3/6/18.

Take notice that the Commission received the following electric rate filings:

Docket Numbers: ER17-2291-002.

Applicants: PJM Interconnection, L.L.C.

Description: Compliance filing: Compliance Filing in ER17-2291 re: February 5, 2018 Order re: Dyanmic Transfers to be effective 11/9/2017.

Filed Date: 2/14/18.

Accession Number: 20180214-5117.

Comments Due: 5 p.m. ET 3/7/18.

Docket Numbers: ER18-856-000.

Applicants: Southern California Edison Company.

Description: Tariff Cancellation: Notice of Cancellation Letter Agreement Casa Diablo 4 Project SA No. 377 to be effective 12/28/2017.

Filed Date: 2/14/18.

Accession Number: 20180214-5066.

Comments Due: 5 p.m. ET 3/7/18.

Docket Numbers: ER18-857-000.

Applicants: California Independent System Operator Corporation.

Description: Compliance filing: 2018-02-14 Petition for Limited Tariff Waiver Tardy Requests Acquired Resources to be effective N/A.

Filed Date: 2/14/18.

Accession Number: 20180214-5144.

Comments Due: 5 p.m. ET 3/7/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 14, 2018.
Nathaniel J. Davis, Sr.,
Deputy Secretary.

[FR Doc. 2018-03504 Filed 2-20-18; 8:45 am]

BILLING CODE 6717-01-P